DEPARTMENT OF ENERGY

Federal Energy Regulatory Commission

[Docket No. ER04-632-000, et al.]

California Independent System Operator Corporation, et al.; Electric Rate and Corporate Filings

March 12, 2004.

The following filings have been made with the Commission. The filings are listed in ascending order within each docket classification.

1. California Independent System Operator Corporation

[Docket No. ER04-632-000]

Take notice that on March 9, 2004, the California Independent System Operator Corporation (ISO) submitted an amendment to the ISO Tariff in order to revise the definition of PTO Service Area and to make clarifying changes to several related provisions. The ISO requests an effective date of May 8, 2004.

The ISO states it has served copies of this filing to the Public Utilities Commission of the State of California, the California Energy Commission, the California Electricity Oversight Board, the Participating Transmission Owners, and upon all parties with effective Scheduling Coordinator Service Agreements under the ISO Tariff. The ISO also states it is posting the filing on its Web site.

Comment Date: March 30, 2004.

2. Salmon River Electric Cooperative, Inc.

[Docket No. ES04-16-000]

Take notice that on March 9, 2004, the Salmon River Electric Cooperative, Inc. (Salmon River) submitted an application pursuant to section 204 of the Federal Power Act requesting that the Commission issue a no action order with regard to Salmon River's issuances of securities to the National Rural Utilities Cooperative Finance Corporation and its guaranty of the obligation of Easy2Pay, LLC, an affiliate, to the National Cooperative Services Cooperation, that have occurred after Salmon River paid off its loans from the Rural Utilities Service without prior authorization of the Commission.

Comment Date: April 1, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-633 Filed 3-18-04; 8:45 am]

BILLING CODE 6717-01-P